DEPARTMENT OF ENERGY

Federal Energy Regulatory Commission

Combined Notice of Filings #1

Take notice that the Commission received the following electric rate filings:

Docket Numbers: ER10-1285-009.

Applicants: Craven County Wood Energy Limited Partnership.

Description: Notice of Non-Material Change in Status of Craven County Wood Energy Limited Partnership.

Filed Date: 8/6/20.

Accession Number: 20200806-5130.

Comments Due: 5 p.m. ET 8/27/20.

Docket Numbers: ER10-2645-004.

Applicants: Baconton Power LLC.

Description: Notice of Non-Material Change in Status of Baconton Power LLC.

Filed Date: 8/5/20.

Accession Number: 20200805-5162.

Comments Due: 5 p.m. ET 8/26/20.

Docket Numbers: ER20-57-002; ER20-339-002; ER20-58-002; ER19-115-002; ER20-59-002; ER20-27-002; ER16-2019-003; ER17-1607-002; ER17-1608-002; ER17-318-003; ER16-2520-003; ER19-8-003; ER19-119-003; ER19-2476-003; ER20-1799-001; ER20-1800-001; ER20-1801-002; ER18-97-002; ER20-422-002.

Applicants: GA Solar 3, LLC, Twiggs County Solar, LLC, FL Solar 1, LLC, FL Solar 4, LLC, FL Solar 5, LLC, AZ Solar 1, LLC, Wright Solar Park LLC, Five Points Solar Park LLC, Sunray Energy 2, LLC, Sunray Energy 3 LLC, Three Peaks Power, LLC, Grand View PV Solar Two LLC, Sweetwater Solar, LLC, Techren Solar I LLC, Techren Solar II LLC, Techren Solar III LLC, Techren Solar IV LLC, Techren Solar V LLC, MS Solar 3, LLC.

Description: Supplement to June 2, 2020 Notice of Non-Material Change in Status of GA Solar 3, LLC, et. al.

Filed Date: 7/20/20.

Accession Number: 20200720-5039.

Comments Due: 5 p.m. ET 8/10/20.

Docket Numbers: ER20-2032-001.

Applicants: Hardin Wind LLC.

Description: Tariff Amendment: Response to Commission Staff Request Regarding Application for Market-Based Rate to be effective 8/10/2020.

Filed Date: 8/5/20.

Accession Number: 20200805-5140.

Comments Due: 5 p.m. ET 8/26/20.

Docket Numbers: ER20-2617-000.

Applicants: California Independent System Operator Corporation.

Description: § 205(d) Rate Filing: 2020-08-06 Settlement Timeline Tariff Amendment to be effective 1/1/2021.

Filed Date: 8/6/20.

Accession Number: 20200806-5001.

Comments Due: 5 p.m. ET 8/27/20.

Docket Numbers: ER20-2618-000.

Applicants: Thordin ApS.

Description: Baseline eTariff Filing: Baseline Aug 2020 to be effective 8/10/2020.

Filed Date: 8/6/20.

Accession Number: 20200806-5010.

Comments Due: 5 p.m. ET 8/27/20.

Docket Numbers: ER20-2619-000.

Applicants: Midcontinent Independent System Operator, Inc., American Transmission Company LLC.

Description: § 205(d) Rate Filing: 2020-08-06_Revisions to Attachment FF-ATCLLC to Align with Cost Allocation to be effective 10/6/2020.

Filed Date: 8/6/20.

Accession Number: 20200806-5051.

Comments Due: 5 p.m. ET 8/27/20.

Docket Numbers: ER20-2620-000.

Applicants: Southern California Edison Company.

Description: § 205(d) Rate Filing: DSA Hecate Energy Desert Storage 1 LLC SA No. 1113 to be effective 10/6/2020.

Filed Date: 8/6/20.

Accession Number: 20200806-5081.

Comments Due: 5 p.m. ET 8/27/20.

Docket Numbers: ER20-2621-000.

Applicants: Midcontinent Independent System Operator, Inc.

Description: § 205(d) Rate Filing: 2020-08-06_Attachment X GIA Section 9.7.3 Inverter Based Resources to be effective 10/6/2020.

Filed Date: 8/6/20.

Accession Number: 20200806-5085.

Comments Due: 5 p.m. ET 8/27/20.

Docket Numbers: ER20-2622-000.

Applicants: Wilmot Energy Center, LLC.

Description: Baseline eTariff Filing: Wilmot Energy Center, LLC Application for MBR Authority to be effective 10/5/2020.

Filed Date: 8/6/20.

Accession Number: 20200806-5093.

Comments Due: 5 p.m. ET 8/27/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2020.
Kimberly D. Bose,
Secretary.

[FR Doc. 2020-17713 Filed 8-12-20; 8:45 am]

BILLING CODE 6717-01-P